DEPARTMENT OF ENERGY

Federal Energy Regulatory Commission

[Docket No. CP17-461-000]

1057533 Alberta Ltd. and 1978740 Alberta Ltd.; Notice of Application for Section 3 Authorization and Presidential Permit

Take notice that on June 5, 2017, 1057533 Alberta Ltd. (Alberta Ltd.), 1500, 700 2nd Street SW., Calgary, Alberta, T2P 2W1 Canada, and 1978740 Alberta Ltd. (Spartan US), 500, 850 2nd Street SW., Calgary, Alberta, T2P 0R8 Canada, filed the above referenced docket an application, pursuant to section 3 of the Natural Gas Act (NGA) and Section 153 of the Commission's regulations, for the importation of natural gas and a Presidential Permit to operate and maintain the import facilities, all as more fully set forth in the application which is on file with the Commission and open to public inspection. This filing may be also viewed on the web at http://www.ferc.gov using the “eLibrary” link. Enter the docket number excluding the last three digits in the docket number field to access the document. For assistance, call (202) 502-8222 or TTY, (202) 208-1659.

Any questions regarding this application should be directed to Gregory Junge, Esq., Van Ness Feldman LLP, 1050 Thomas Jefferson Street NW., Washington, DC 20007 or call (202) 298-1945 or Jon Lowes, Vice President, Land, Harvest Operations Corp., 1500, 700 2nd Street SW., Calgary, AB Canada T2P 2W1 or call (403) 231-5253.

Pursuant to Section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the e-Filing link.

Comment Date: 5:00 p.m. Eastern daylight Savings Time on July 6, 2017.

Dated: June 15, 2017.
Kimberly D. Bose,
Secretary.

[FR Doc. 2017-12926 Filed 6-20-17; 8:45 am]

BILLING CODE 6717-01-P